DEPARTMENT OF LABOR

Office of the Secretary

Submission for OMB Review; Comment Request

June 17, 2003.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation, contact Darrin King on 202-693-4129 (this is not a toll-free number) or E-Mail: king.darrin@dol.gov.

Comments should be sent to Office of Information and Regulatory Affairs, Attn: OMB Desk Officer for the Employment Standards Administration (ESA), Office of Management and Budget, Room 10235, Washington, DC 20503 (202-395-7316) this is not a toll-free number), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Agency: Employment Standards Administration.

Type of Review: Extension of a currently approved collection.

Title: Application for Farm Labor Contractor and Farm Labor Contractor Employee Certificate of Registration.

OMB Number: 1215-0037.

Affected Public: Individuals or households; Business or other for-profit; and Farms.

Frequency: On occasion and Biennially.

Number of Respondents: 9,200.

Name of Annual Responses: 9,200.

Average Response Time: 30 minutes.

Total Burden Hours: 4,600.

Total Annualized Capital/Startup Costs: $0.

Total Annual Costs (operating/maintaining systems or purchasing services): $2,392.

Description: Section 101(a) of the Migrant and Seasonal Agricultural Worker Protection Act provides that no individual may perform farm labor contracting activities without a certificate of registration. Form WH-530 is the application form that provides the Department of Labor with the information necessary to issue certificates specifying the farm labor contracting activities authorized. This collection of information is authorized by 29 CFR part 500.

Agency: Employment Standards Administration.

Type of Review: Extension of a currently approved collection.

Title: Wage Statement.

OMB Number: 1215-0148.

Frequency: On occasion.

Affected Public: Farms; Business or other for-profit; and Individuals or households.

Number of Respondents: 1.4 million.

Number of Annual Responses: 34 million.

Estimated Time Per Response: 1 minute.

Total Burden Hours: 566,667.

Total Annualized capital/startup costs: $0.

Total annual costs (operating/maintaining systems or purchasing services): $0

Description: Section 201(d) and 301(c) of the Migrant and Seasonal Agricultural Protection Act and 29 CFR Part 500 requires employers of agricultural workers to maintain records of certain payroll information given to each worker.

Ira L. Mills,
Departmental Clearance Officer.

[FR Doc. 03-16164 Filed 6-25-03; 8:45 am]

BILLING CODE 4510-27-M